DEPARTMENT OF THE INTERIOR

National Park Service

[NPS-WASO-NAGPRA-NPS0030584; PPWOCRADN0-PCU00RP14.R50000]

Notice of Inventory Completion: Warren Anatomical Museum, Harvard University, Boston, MA

AGENCY: National Park Service, Interior.

ACTION: Notice.

SUMMARY: The Peabody Museum of Archaeology and Ethnology and Warren Anatomical Museum, Harvard University, have completed an inventory of human remains, in consultation with the appropriate Indian Tribes, and have determined that there is a cultural affiliation between the human remains and present-day Indian Tribes. Representatives of any Indian Tribe that believes itself to be culturally affiliated with the human remains may contact the Peabody Museum of Archaeology and Ethnology, Harvard University. Repatriation of the human remains to the Indian Tribes stated below may occur if no additional claimants come forward.

DATES: Representatives of any Indian Tribe that believes it has a cultural affiliation with the human remains should contact the Peabody Museum of Archaeology and Ethnology, Harvard University at the address below by September 2, 2020.

ADDRESSES: Patricia Capone, Peabody Museum of Archaeology and Ethnology, Harvard University, 11 Divinity Avenue, Cambridge, MA 02138, telephone (617) 496-3702.

SUPPLEMENTARY INFORMATION: Notice is here given in accordance with the Native American Graves Protection and Repatriation Act (NAGPRA), 25 U.S.C. 3003, of the completion of an inventory of human remains under the control of the Warren Anatomical Museum, Harvard University, Boston, MA. The human remains were removed from Dedham, Norfolk County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Peabody Museum of Archaeology and Ethnology and Warren Anatomical Museum professional staff in consultation with representatives of the Mashpee Wampanoag Tribe (previously listed as Mashpee Wampanoag Indian Tribal Council, Inc.); Wampanoag Tribe of Gay Head (Aquinnah); and the Assonet Band of the Wampanoag Nation, a non-federally recognized Indian group.

History and Description of the Remains

In 1856, human remains representing, at minimum, one individual, Mr. Alexander Quapish, were removed from Dedham in Norfolk County, MA, by Dr. Henry Jacob Bigelow. Bigelow transferred Mr. Quapish's remains to the Warren Anatomical Museum. Museum records describe the decedent as “Qualish, the last of the Indian tribe at Dedham, Mass.; was buried in 1774; aet. 68.” There is no additional information in museum records about the context in which these human remains were found. No associated funerary objects are present.

Museum information shows by a preponderance of the evidence that the human remains are of the Native American individual Alexander Quapish, whose name is recorded variously in the historical record, for example as: Qualish, Quapes, Quapish, Queppish. Primary records and secondary histories indicate Mr. Quapish and his wife, Sarah David, were Native Americans living in Dedham. According to a local historian and to vital records for the Town of Dedham, Massachusetts, Mr. Quapish was from Yarmouth, Massachusetts, Wampanoag territory. Mr. Quapish may have moved to Dedham because both Dedham and Yarmouth were associated with a network of Native American Christianized settlements. Shortly after Sarah David's death in 1774, Mr. Quapish enlisted in the Continental Army. Alexander Quapish reportedly died in 1776, at the age of 34, in Needham, Massachusetts, and may have been buried in Needham or Natick, rather than Dedham. The possibility of repatriation to lineal descendants was explored in consultation with Wampanoag representatives. After consultation and genealogical review, however, no lineal descendants have been identified.

Osteological examination of the human remains indicates that they are probably of an adult male and are of Native American ancestry. This information most closely matches the documented history of Alexander Quapish. Although some documented elements of his personal history, including burial in Needham or Natick, death in 1776, and age at death do not match information in Warren Anatomical Museum records, historical documentation and osteological examination indicate by a preponderance of the evidence that this individual is Alexander Quapish.

Determinations Made by the Peabody Museum of Archaeology and Ethnology and the Warren Anatomical Museum, Harvard University

Officials of the Peabody Museum of Archaeology and Ethnology and the Warren Anatomical Museum, Harvard University have determined that:

• Pursuant to 25 U.S.C. 3001(9), the human remains described in this notice represent the physical remains of one individual of Native American ancestry.

• Pursuant to 25 U.S.C. 3001(2), there is a relationship of shared group identity that can be reasonably traced between the Native American human remains and the Mashpee Wampanoag Tribe (previously listed as Mashpee Wampanoag Indian Tribal Council, Inc.) and the Wampanoag Tribe of Gay Head (Aquinnah), Indian Tribes that represent people of Wampanoag descent.

Additional Requestors and Disposition

Representatives of any Indian Tribe that believes itself to be culturally affiliated with the human remains should contact Patricia Capone, Peabody Museum of Archaeology and Ethnology, Harvard University, 11 Divinity Avenue, Cambridge, MA 02138, telephone (617) 496-3702, by September 2, 2020. After that date, if no additional requestors have come forward, transfer of control of the human remains to the Mashpee Wampanoag Tribe (previously listed as Mashpee Wampanoag Indian Tribal Council, Inc.) and the Wampanoag Tribe of Gay Head (Aquinnah) may proceed.

The Peabody Museum of Archaeology and Ethnology on behalf of the Warren Anatomical Museum, Harvard University is responsible for notifying the Mashpee Wampanoag Tribe (previously listed as Mashpee Wampanoag Indian Tribal Council, Inc.); Wampanoag Tribe of Gay Head (Aquinnah); and the Assonet Band of the Wampanoag Nation, a non-federally recognized Indian group, that this notice has been published.

Dated: July 6, 2020.
Melanie O'Brien,
Manager, National NAGPRA Program.

[FR Doc. 2020-16776 Filed 7-31-20; 8:45 am]

BILLING CODE 4312-52-P